DEPARTMENT OF STATE

[Public Notice: 10678]

Notice of Information Collection Under OMB Emergency Review: Three Information Collections Related to the United States Munitions List, Categories I, II and III; Correction

ACTION: Notice of request for emergency OMB approval and public comment; correction.

SUMMARY: The Department of State published a Federal Register Notice on February 12, 2019, notifying the public of the Emergency processing and approval of this collection by April 1, 2019. The Notice using Docket Number: DOS-2018-0063 contained an incorrect date when all comments must be received. This document corrects the date to March 14, 2019.

FOR FURTHER INFORMATION CONTACT: Direct requests for additional information regarding the collection listed in this notice, including requests for copies of the proposed collection instrument and supporting documents to Andrea Battista who may be reached on 202-663-3136 or at battistaal@state.gov.

Correction

In the Federal Register, published on February 12, 2019, in FR Doc. 2019-01983, on page 3528, in the first column, the correct date when all comments must be received is March 14, 2019.

Anthony M. Dearth
Chief of Staff, Directorate of Defense Trade Controls, Department of State.

[FR Doc. 2019-03091 Filed 2-21-19; 8:45 am]

BILLING CODE 4710-25-P